DEPARTMENT OF THE INTERIOR

Bureau of Land Management

[CA-350-1610-DP]

Notice of Availability of Draft Resource Management Plans and Associated Draft Environmental Impact Statement for Three Bureau of Land Management Field Offices in Northeast California and Northwest Nevada: the Eagle Lake Field Office; the Alturas Field Office; the Surprise Field Office

AGENCY: Bureau of Land Management, Interior.

ACTION: Notice of availability.

SUMMARY: In accordance with the National Environmental Policy Act (NEPA) of 1969, and under the authority of the Federal Land Policy and Management Act (FLPMA) of 1976, the Bureau of Land Management (BLM) has prepared three Draft Resource Management Plans/Draft Environmental Impact Statement (DRMP/DEIS) for public lands managed by the Eagle Lake Field Office, Susanville, Calif.; the Alturas Field Office, Alturas, Calif.; and the Surprise Field Office, Cedarville, Calif. These drafts are now available for public review.

DATES: Written comments on the DRMP/DEIS documents will be accepted for 90 days following the Environmental Protection Agency's publication of the Notice of Availability of these DRMP/DEIS documents in the Federal Register. Public meetings and any other public involvement activities will be announced at least 15 days in advance through public notices, media news releases and direct mailings.

ADDRESSES: Written comments should be sent to: Resource Management Plan, Bureau of Land Management, 2950 Riverside Drive, Susanville, CA 96130, or via e-mail to: necarmp@ca.blm.gov.

FOR FURTHER INFORMATION CONTACT: For further information or to have your name added to the project mailing list, contact Jeff Fontana, Public Affairs Officer, Bureau of Land Management, 2950 Riverside Dr., Susanville, CA 96130, or e-mail your request to: necarmp@ca.blm.gov.

SUPPLEMENTARY INFORMATION: The Eagle Lake, Alturas and Surprise field office jurisdictions encompass approximately three million acres of Public Lands. The Eagle Lake Field Office is headquartered in Susanville, Calif.; the Alturas Field Office in Alturas, Calif.; and the Surprise Field Office in Cedarville, Calif. New DRMP/DEIS for lands administered by these offices have been developed based on current policies and regulations, changed circumstances and new information on natural resources and natural resource management. New resource management plans are needed because current management direction for the three field offices is contained in 18 separate land use plans and subsequent amendments. The RMPs will fulfill the needs and obligations set forth by the NEPA, FLPMA, and BLM management policies. The BLM has worked collaboratively with interested parties to identify the management decisions that are best suited to address local, regional and national concerns.

The BLM held six public scoping meetings and three field tours in August and September 2003 as part of the process to identify issues to be addressed in these resource management plans. Two internal scoping meetings were held in November of 2003 to solicit input from BLM staff and other agency personnel. Participants provided the BLM with comments and issues for the RMPs. BLM personnel have been in contact with a number of tribes, county governments and state and Federal agencies about the planning project. These entities have been invited to participate as cooperating agencies in the development of the DRMP/DEIS documents. To date, the BLM has received 32 letters, 73 comment forms and 1,300 e-mail messages.

The DRMP describes five management alternatives, including the No Action Alternative (continuation of existing management). Alternatives 1, 2, 3, and the preferred alternative present a range of management scenarios with varying amounts of natural resource protection and focus.

The preferred alternative for the Alturas FO includes the following Areas of Critical Environmental Concern (ACEC): Ash Valley ACEC—1322 acres (existing); Timbered Crater ACEC—17,896 acres; Emigrant Trails ACEC—1,750 acres; Mountain Peaks ACEC—3,500 acres; Old Growth Juniper ACEC—3,115 acres; Mount Dome ACEC—1510 acres; Tablelands/Yankee Jim/Fitzhugh Creek ACEC—1,400 acres. Four additional ACECs: Lava, Pit River Canyon, Juniper Creek, and Beaver Creek, were considered but not included in the preferred alternative.

The preferred alternative for the Eagle Lake FO includes the following ACECs: Pine Dunes ACEC/Research Natural Area (RNA)—2,887 acres; Eagle Lake Basin ACEC—34,320 acres; Susan River ACEC—2,495 acres; Willow Creek ACEC—2,130 acres; Lower Smoke Creek ACEC—894 acres; Buffalo Creek Canyons ACEC—36,515 acres; and North Dry Valley ACEC—10,156 acres. One additional ACEC, Aspen Groves, was considered but not included in the preferred alternative. The preferred alternative for the Surprise FO includes the following ACECs: Massacre ACEC—44,780 acres; Bitner ACEC—1,921 acres; and Rahilly-Gravelly ACEC—957 acres. Use of public lands within these ACECs would vary, depending on the resources and/or values identified in Chapter 2 of the Draft RMP/EIS, but would include limitations on off-highway vehicle use and ground-disturbing development projects.

Please note that comments, including names and street addresses of respondents, are available for public review and release under the Freedom of Information Act (FOIA). Individual respondents may request confidentiality by stating this request prominently at the beginning of their written comments. Such requests will be honored to the extent allowed by law. The BLM will not consider anonymous comments. All submissions from organizations or businesses and from individuals identifying themselves as representatives or officials of organizations and businesses will be made available for public inspection in their entirety.

Printed and compact disc copies of the Draft RMP/Draft EIS documents have been sent to affected federal, tribal, state and local government agencies and to interested publics. The documents are available by contacting the Bureau of Land Management Eagle Lake Field Office, 2950 Riverside Dr., Susanville, CA 96130. Documents are available online at http://www.blm.gov/ca/pa/planning/landuseplanning.html. Additionally, the documents may be reviewed at the following BLM offices: California State Office, Information Access Center, 2800 Cottage Way, Sacramento, Calif.; Alturas Field Office, 708 West 12th St., Alturas, Calif.; and the Surprise Field Office, 602 Cressler St., Cedarville, Calif.

Dated: August 5, 2005.
Dayne Barron,
Eagle Lake Field Office Manager.

Editorial Note: This document was received at the Office of the Federal Register April 25, 2006.

[FR Doc. 06-4033 Filed 4-27-06; 8:45 am]

BILLING CODE 4310-40-P